DEPARTMENT OF THE INTERIOR

Bureau of Land Management

[AZ-910-0777-26-241A]

State of Arizona Resource Advisory Council Meeting

AGENCY: Bureau of Land Management, Interior.

ACTION: Arizona Resource Advisory Council Meeting notice.

SUMMARY: This notice announces a meeting of the Arizona Resource Advisory Council (RAC).

The business meeting will be held on July 10, 2003, at the BLM National Training Center, 9828 North 31st Avenue in Phoenix, Arizona. It will begin at 9:30 a.m. and conclude at 4 p.m. The agenda items to be covered include: Review of the May 7-8, 2002 meeting minutes; BLM State Director's Update on Statewide Issues; Updates on Sustaining Working Landscape Initiative, Wilderness Handbook Revisions, Arizona Land Tenure Adjustment Strategy, Land and Water Conservation Fund Acquisitions; RAC Questions on Written Reports from BLM Field Office Managers; Reports by the Standards and Guidelines, Recreation and Public Relations, Wild Horse and Burro Working Groups; Reports from RAC members; and Discussion of future meetings. A public comment period will be provided at 11:30 a.m. on July 10, 2003, for any interested publics who wish to address the Council.

FOR FURTHER INFORMATION CONTACT: Deborah Stevens, Bureau of Land Management, Arizona State Office, 222 North Central Avenue, Phoenix, Arizona 85004-2203, (602) 417-9215.

Michael Taylor,
Acting Arizona State Director.

[FR Doc. 03-15090 Filed 6-13-03; 8:45 am]

BILLING CODE 4310-32-M